DEPARTMENT OF COMMERCE

International Trade Administration

[A-552-818]

Certain Steel Nails From the Socialist Republic of Vietnam: Rescission of Antidumping Duty Administrative Review; 2019-2020

AGENCY: Enforcement and Compliance, International Trade Administration, Department of Commerce.

SUMMARY: The Department of Commerce (Commerce) is rescinding its administrative review of the antidumping duty (AD) order on certain steel nails from the Socialist Republic of Vietnam (Vietnam) for the period of review (POR) July 1, 2019, through June 30, 2020.

DATES: Applicable May 10, 2021.

FOR FURTHER INFORMATION CONTACT: Mark Flessner, AD/CVD Operations, Office VI, Enforcement and Compliance, International Trade Administration, U.S. Department of Commerce, 1401 Constitution Avenue NW, Washington, DC 20230; telephone: (202) 482-6312.

SUPPLEMENTARY INFORMATION:

Background

On July 1, 2020, Commerce published in the Federal Register a notice of opportunity to request an administrative review of the AD order ¹ on certain steel nails from Vietnam for the POR.² On July 31, 2020, Commerce received a timely request from Mid Continent Steel & Wire, Inc. (the petitioner), in accordance with section 751(a) of the Tariff Act of 1930, as amended (the Act), and 19 CFR 351.213(b), to conduct an administrative review of this AD order for 23 companies.³ No other party requested an administrative review.

¹ See Certain Steel Nails from the Republic of Korea, Malaysia, the Sultanate of Oman, Taiwan, and the Socialist Republic of Vietnam: Antidumping Duty Orders, 80 FR 39994 (July 13, 2015).

² See Antidumping or Countervailing Duty Order, Finding, or Suspended Investigation; Opportunity to Request Administrative Review, 85 FR 39531 (July 1, 2020).

³ See Petitioner's Letter, “Certain Steel Nails from SR of Vietnam: Request for Administrative Review,” dated July 31, 2020. There were 24 listings in this letter, but one company, Top Shipping Company Limited, was listed twice; consequently, only 23 individual companies were named.

On September 3, 2020, Commerce published in the Federal Register a notice of initiation with respect to the following 23 companies:

1. Atlantic Manufacture Inc.

2. Chia Pao Metal Co., Ltd.

3. Delmar International (Vietnam) Ltd.

4. Dicha Sombrilla Co., Ltd.

5. Easylink Industrial Co., Ltd.

6. Expeditors Vietnam Company Limited

7. Gia Linh Logistics Services Co., Ltd.

8. Global Logistics Solution Co., Ltd.

9. Inmax Industries SDN. BHD

10. Jinhai Hardware Co., Ltd.

11. K-Apex Logistics (HK) Co., Limited

12. KPF Vietnam Co., Ltd.

13. KPF Vina Co., Ltd.

14. Orient Star Transport Int'l Ltd.

15. Oriental Multiple Enterprise Ltd.

16. Pudong Prime Int'l Logistics Inc.

17. Region Industries Co., Ltd.

18. Rich State, Inc.

19. Top Shipping Company Limited

20. Topy Fasteners Vietnam Co., Ltd.

21. Truong Vinh Ltd.

22. United Nail Products Co., Ltd.

23. Vina Hardwares Joint Stock Company ⁴

⁴ See Initiation of Antidumping and Countervailing Duty Administrative Reviews, 85 FR 54983 (September 3, 2020).

On September 24, 2020, the petitioner timely withdrew its request for an administrative review for all 23 companies.⁵

⁵ See Petitioner's Letter, “Certain Steel Nails from Vietnam—Withdrawal of Request for Administrative Review,” dated September 24, 2020.

Rescission of Administrative Review

Pursuant to 19 CFR 351.213(d)(1), Commerce will rescind an administrative review, in whole or in part, if the parties that requested a review withdraw the request within 90 days of the date of publication of the notice of initiation of the requested review. The petitioner withdrew its request for review for all companies by the 90-day deadline, and no other party requested an administrative review of this order. Therefore, we are rescinding the administrative review of the AD order on certain steel nails from Vietnam covering the period July 1, 2019, through June 30, 2020, in its entirety.

Assessment

Commerce will instruct U.S. Customs and Border Protection (CBP) to assess antidumping duties on all appropriate entries. Antidumping duties shall be assessed at rates equal to the cash deposit of estimated antidumping duties required at the time of entry, or withdrawal from warehouse, for consumption, in accordance with 19 CFR 351.212(c)(1)(i). Consistent with its recent notice,⁶ Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

⁶ See Notice of Discontinuation of Policy to Issue Liquidation Instructions After 15 Days in Applicable Antidumping and Countervailing Duty Administrative Proceedings, 86 FR 3995 (January 15, 2021).

Notification to Importers

This notice serves as the only reminder to importers of their responsibility, under 19 CFR 351.402(f)(2), to file a certificate regarding the reimbursement of antidumping duties prior to liquidation of the relevant entries during this review period. Failure to comply with this requirement may result in the presumption that reimbursement of antidumping duties occurred and the subsequent assessment of double antidumping duties.

Notification Regarding Administrative Protective Orders

This notice serves as the only reminder to parties subject to administrative protective order (APO) of their responsibility concerning the disposition of proprietary information disclosed under APO in accordance with 19 CFR 351.305(a)(3). Timely written notification of the return or destruction of APO materials or conversion to judicial protective order is hereby requested. Failure to comply with the regulations and the terms of an APO is a sanctionable violation.

This notice is published in accordance with section 777(i)(1) of the Act, and 19 CFR 351.213(d)(4).

Dated: May 4, 2021.
James Maeder,
Deputy Assistant Secretary for Antidumping and Countervailing Duty Operations.

[FR Doc. 2021-09803 Filed 5-7-21; 8:45 am]

BILLING CODE 3510-DS-P